DEPARTMENT OF THE TREASURY

Internal Revenue Service

26 CFR Part 301

[REG-103039-05]

RIN 1545-BE26

AJCA Modifications to the Section 6111 Regulations; Correction

AGENCY: Internal Revenue Service (IRS), Treasury.

ACTION: Correction to notice of proposed rulemaking by cross-reference to temporary regulations.

SUMMARY: This document contains a correction to notice of proposed rulemaking by cross-reference to temporary regulations that were published in the Federal Register on Thursday, November 2, 2006 (71 FR 64496) relating to the disclosure of reportable transactions by material advisors.

FOR FURTHER INFORMATION CONTACT: Tara P. Volungis or Charles Wien, 202-622-3070 (not a toll-free number).

SUPPLEMENTARY INFORMATION:

Background

The notice of proposed rulemaking by cross-reference to temporary regulations (REG-103039-05) that is the subject of this correction is under sections 6111 and 6112 of the Internal Revenue Code.

Need for Correction

As published, the notice of proposed rulemaking by cross-reference to temporary regulations (REG-103039-05) contains an error that may prove to be misleading and is in need of clarification.

Correction of Publication

Accordingly, the notice of proposed rulemaking by cross-reference to temporary regulations (REG-103039-05) that was the subject of FR Doc. E6-18321 is corrected as follows:

§ 301.6111-3 [Corrected]

On page 64499, column 1, § 301.6111-3(b)(2)(ii)(B), first paragraph of the column, lines 4 and 5, the language “disclosure of the tax structure or tax aspects of the transaction is limited in” is corrected to read “disclosure of the tax treatment or tax structure of the transaction is limited in”.

La Nita VanDyke,
Branch Chief, Publications and Regulations Branch, Legal Processing Division, Associate Chief Counsel, (Procedure and Administration).

[FR Doc. E6-20382 Filed 12-1-06; 8:45 am]

BILLING CODE 4830-01-P